NATIONAL ARCHIVES AND RECORDS ADMINISTRATION

[NARA-2018-010]

Records Management; General Records Schedule (GRS); GRS Transmittal 29

AGENCY: National Archives and Records Administration (NARA).

ACTION: Notice of new General Records Schedule (GRS) Transmittal 29.

SUMMARY: NARA is issuing a new set of General Records Schedules (GRS) via GRS Transmittal 29. The GRS provides mandatory disposition instructions for administrative records common to several or all Federal agencies. Transmittal 29 announces changes we have made to the GRS since we published Transmittal 28 in July. We are concurrently disseminating Transmittal 29 (the memo and the accompanying records schedules and documents) directly to each agency's records management official and have also posted it on NARA's website.

DATES: This transmittal is effective December 21, 2017.

ADDRESSES: You can find this transmittal on NARA's website at http://www.archives.gov/records-mgmt/grs/grs-trs29.pdf. You can download the complete current GRS, in PDF format, from NARA's website at http://www.archives.gov/records-mgmt/grs/trs29-sch-only.pdf.

FOR FURTHER INFORMATION CONTACT: For more information about this notice or to obtain paper copies of the GRS, contact Kimberly Keravuori, External Policy Program Manager, by email at regulation_comments@nara.gov or by telephone at 301-837-3151.

Writing and maintaining the GRS is the GRS Team's responsibility. This team is part of Records Management Services in the National Records Management Program, Office of the Chief Records Officer at NARA. You may contact NARA's GRS Team with general questions about the GRS at GRS_Team@nara.gov.

Your agency's records officer may contact the NARA appraiser or records analyst with whom your agency normally works for support in carrying out this transmittal and the revised portions of the GRS. You may access a list of the appraisal and scheduling work group and regional contacts on our website at http://www.archives.gov/records-mgmt/appraisal/index.html.

SUPPLEMENTARY INFORMATION: GRS Transmittal 29 announces changes to the General Records Schedules (GRS) made since NARA published GRS Transmittal 28 in July 2017. The GRS provide mandatory disposition instructions for records common to several or all Federal agencies. With Transmittal 29, we come to the end of our five-year plan to completely rewrite the GRS dating from the 1940s and updated piecemeal over the succeeding decades. All the old items are now superseded or, in some case, rescinded.

Transmittal 29 includes only schedules newly issued or updated since the last transmittal and those schedules' associated new-to-old crosswalks and FAQs. This means that many current GRS schedules are not included in this Transmittal.

You can find all schedules (in Word, PDF, and CSV formats), crosswalks and FAQs for all schedules, and FAQs about the whole GRS at http://www.archives.gov/records-mgmt/grs.html. At the same location, you can also find the entire GRS (just schedules—no crosswalks or FAQs) in a single document.

What changes does this transmittal make to the GRS?

GRS Transmittal 29 publishes five new schedules:

GRS 1.3 Budgeting Records | DAA-GRS-2015-0006
GRS 2.7 Employee Health and Safety Records | DAA-GRS-2017-0010
GRS 5.7 Agency Accountability Records | DAA-GRS-2017-0008
GRS 6.3 Information Technology Records | DAA-GRS-2017-0009
GRS 6.6 Rulemaking Records | DAA-GRS-2017-0012

This transmittal also publishes two updates:

GRS 2.1 Employee Acquisition Records: Updated item (see question 3). |
GRS 5.2 Transitory and Intermediary Records: Updated FAQs (see question 4). |

What changes did we make to GRS 2.1?

We expanded items 050 and 051 to include mandatory job applicant drug testing records.

What changes did you make to the GRS 5.2 FAQs?

We added new questions 7 and 8 in response to questions raised by users. We also corrected a typo. “May not be destroyed until 90 days after submission of a notification to NARA” in question 12 (question 10 in the earlier version) now reads “may not be destroyed until 60 days after submission of a notification to NARA.”

What GRS items does GRS Transmittal 29 rescind?

Many old GRS items are superseded by new GRS items. A few old items, however, have outlived their usefulness and cannot be crosswalked to new items. The table below lists old items rescinded by GRS Transmittal 29.

GRS | Item | Title | Reason
1 | 21a1 | Employee Medical Folders: Transferred employees | Was simply a filing/handling instruction and never had an associated disposition authority. The instruction is now a Note appended to GRS 2.7, item 060.
1 | 22 | Employee Health Statistics | Both the Bureau of Labor Statistics and the Occupational Safety and Health Administration confirmed these agency reports are no longer collected.
3 | 17 | Small and Disadvantaged Business Utilization Files | The Small and Disadvantaged Business Utilization program terminated in 2015. The records are no longer being created.
16 | 5 | Project Control Files | Item authorized periodic disposal of system data after long-term records were downloaded and safeguarded. Such data is now covered under 5.1, item 020.
16 | 11 | Information Resources Management Triennial Review Files | Item was added to the GRS in 1987 to comply with regulations issued in response to the Brooks Act of 1985. The Information Technology Management Reform Act of 1996 repealed this authority, ending the reviews.
16 | 14f2 | Management Control Records—Review files—Copies maintained by other offices as internal reviews | Item described non-record reference copies, which do not need to be scheduled.

Rescinded items are shown in context of their schedules in the old-to-new crosswalk.

How do I cite new GRS items?

When you send records to an FRC for storage, you should cite the records' legal authority—the “DAA” number—in the “Disposition Authority” column of the table. For informational purposes, please include schedule and item number. For example, “DAA-GRS-2013-0001-0004 (GRS 4.3, item 020).”

Do I have to take any action to implement these GRS changes?

NARA regulations (36 CFR 1226.12(a)) require agencies to disseminate GRS changes within six months of receipt.

Per 36 CFR 1227.12(a)(1), you must follow GRS dispositions that state they must be followed without exception.

Per 36 CFR 1227.12(a)(3), if you have an existing schedule that differs from a new GRS item that does not require being followed without exception, and you wish to continue using your agency-specific authority rather than the GRS authority, you must notify NARA within 120 days of the date of this transmittal.

If you do not have an already existing agency-specific authority but wish to apply a retention period that differs from that specified in the GRS, you must submit a records schedule to NARA for approval via the Electronic Records Archives.

How do I get copies of the new GRS?

You can download the complete current GRS, in PDF format, from NARA's website at http://www.archives.gov/records-mgmt/grs/trs29-sch-only.pdf.

Whom do I contact for further information?

Writing and maintaining the GRS is the responsibility of the GRS Team. You may contact the team with general questions about the GRS at GRS_Team@nara.gov. This team is part of Records Management Services in the National Records Management Program of the Office of the Chief Records Officer at NARA.

Your agency's records officer may contact the NARA appraiser or records analyst with whom your agency normally works for support in carrying out this transmittal. A list of the appraisal and scheduling work group and regional contacts is on the NARA website at http://www.archives.gov/records-mgmt/appraisal/index.html.

David S. Ferriero,
Archivist of the United States.

[FR Doc. 2017-27462 Filed 12-20-17; 8:45 am]

BILLING CODE 7515-01-P